DEPARTMENT OF THE INTERIOR

National Park Service

[NPS-WASO-NRNHL-DTS#-35415; PPWOCRADI0, PCU00RP14.R50000]

National Register of Historic Places; Notification of Pending Nominations and Related Actions

AGENCY: National Park Service, Interior.

ACTION: Notice.

SUMMARY: The National Park Service is soliciting electronic comments on the significance of properties nominated before February 18, 2023, for listing or related actions in the National Register of Historic Places.

DATES: Comments should be submitted electronically by March 17, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 18, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

COLORADO

Denver County

Colorado Woman's College (Boundary Increase), 7110, 7150, 7190, 7196 Montview Blvd.; 1740, 1790, 1800 Pontiac St., Denver, BC100008760

Larimer County

Hollemon-Smith Homestead and Ranch, 6671 Stove Prairie Rd., Bellvue, SG100008783

KANSAS

Douglas County

Anderson, Knud, Farmstead (Agriculture-Related Resources of Kansas MPS), 1862 North 700 Rd., Vinland vicinity, MP100008784

NEW JERSEY

Morris County

St. Mary's Church Historic District, South Main St. bounded by US 46 and St. Mary's St., Borough of Wharton, SG100008766

OHIO

Cuyahoga County

Droppers, Carl, House, 345 Prospect Rd., Berea, SG100008761

OKLAHOMA

Atoka County

Claud Collier Chevrolet & Buick Company, 115 East Court St., Atoka, SG100008767

Kay County

Cleary, John and Helen, House, 45 Hillcrest Dr., Ponca City, SG100008768

Gill, Meade and Eudora, House, 418 North 2nd St., Ponca City, SG100008769

TENNESSEE

Shelby County

Griggs Business and Practical Arts College, 492 Vance Ave., Memphis, SG100008765

UTAH

Box Elder County

Brigham City Historic District (Brigham City MPS), Roughly bounded by 700 South, 500 East, 500 North and 300 and 500 West Sts., Brigham City, MP100008770

VERMONT

Franklin County

St. Albans Historic District (Boundary Increase), All or parts of: Academy Dr, Bank, Catherine, Center, Church, Congress, Fairfield, Federal, Kingman, Lake, North Main, and South Main Sts., Lincoln Ave., Hampton and Maiden Lns., St. Albans, BC100008758

WISCONSIN

Washington County

West Bend Downtown Historic District, 102-337 North Main, 101-162 South Main, 508 and 519 Hickory, 607 and 623-627 Elm, 623-629 Cedar Sts., 108-112 5th, 100-228 6th Aves., West Bend, SG100008763

A request for removal has been made for the following resources:

MAINE

Aroostook County

Oakfield Grange, #414, 89 Ridge Rd., Oakfield, OT06000920

Watson Settlement Bridge, Crossing Meduxnekeag R. north of Carson Rd., Littleton vicinity, OT70000039

Cumberland County

Babb's Bridge, Over Presumpscot River, west of River Rd., east of Cane Rd., Gorham vicinity, OT09000088

Kennebec County

Shurtleff, Jonas R., House, 461 Augusta Rd., Winslow, OT74000173

Dinsmore Grain Company Mill, 142 Branch Mills Rd., China, OT79000147

Somerset County

Steward-Emery House, 46 North Main St., North Anson, OT92001705

York County

Perkins Tide Mill, 8 Mill Ln., Kennebunkport, OT73000160

Sanford Naval Air Station Administration Building-Control Tower, Former SW corner of Sanford Municipal Airport, SW of jct. of ME 99 and ME 109, South Sanford vicinity, OT97000603

Additional documentation has been received for the following resources:

COLORADO

Denver County

Colorado Woman's College (Additional Documentation) 7110, 7150, 7190, 7196 Montview Blvd.; 1740, 1790, 1800 Pontiac St., Denver, AD78000855

UTAH

Salt Lake County

Fitzgerald House (Additional Documentation) (Draper, Utah MPS), 1160 E Pioneer Ave., Draper, AD16000679

VERMONT

Franklin County

St. Albans Historic District (Additional Documentation) All or parts of: Academy Dr, Bank, Catherine, Center, Church, Congress, Fairfield, Federal, Kingman, Lake, North Main, and South Main Sts., Lincoln Ave., Hampton and Maiden Lns., St. Albans, AD80000335

Nomination submitted by Federal Preservation Officer:

The State Historic Preservation Officer reviewed the following nomination and responded to the Federal Preservation Officer within 45 days of receipt of the nomination and supports listing the property in the National Register of Historic Places.

DISTRICT OF COLUMBIA

District of Columbia

National Museum of Natural History, 10th St. and Constitution Ave. NW, Washington, SG100008754

Authority: Section 60.13 of 36 CFR part 60.

Dated: February 22, 2023.
Sherry A. Frear,
Chief, National Register of Historic Places/National Historic Landmarks Program.

[FR Doc. 2023-04269 Filed 3-1-23; 8:45 am]

BILLING CODE 4312-52-P